DEPARTMENT OF HEALTH AND HUMAN SERVICES

National Institutes of Health

Notice To Announce the Significant Changes to the NIH Grants Policy Statement for Fiscal Year 2024

AGENCY: National Institutes of Health, HHS.

ACTION: Notice.

SUMMARY: The National Institutes of Health (NIH) announces publication of the updated significant changes that have already been made to the NIH Grants Policy Statement (GPS) in fiscal year 2023 that will be reflected in the GPS for fiscal year 2024. The NIH GPS provides both up-to-date policy guidance that serves as NIH standard terms and conditions of award for all NIH grants and cooperative agreements, and extensive guidance to those who are interested in pursuing NIH grants. This update incorporates significant changes for FY 2024, such as new and modified requirements, clarifies certain policies, and implements changes in statutes, regulations, and policies that have been implemented through appropriate legal and/or policy processes (e.g., Federal Register Notices, where appropriate) since the previous version of the NIHGPS dated December 2022.

DATES: The significant changes to the revised NIH GPS for Fiscal Year 2024 is now available for viewing.

ADDRESSES: Please visit our website to view the updated Significant Changes for Fiscal Year 2024 and NIH GPS at https://grants.nih.gov/policy/nihgps/index.htm.

FOR FURTHER INFORMATION CONTACT: Xanthia James, Director, Division of Grants Policy, Office of Policy for Extramural Research Administration, NIH, Rockledge I, Suite 350, Bethesda, MD 20817. Email: Xanthia.James@nih.gov. Phone number: (301) 435-0949.

SUPPLEMENTARY INFORMATION: This update is applicable to all NIH grants and cooperative agreements with budget periods beginning on or after October 1, 2023. This update supersedes, in its entirety, the NIH GPS dated December 2022. Previous versions of the NIH GPS remain applicable as standard terms and conditions of award for all NIH grants and cooperative agreements with budget periods that began prior to October 1, 2023. This update incorporates new and modified requirements, clarifies certain policies, and implements changes in statutes, regulations, and policies that have been implemented through appropriate legal and/or policy processes since the previous version of the NIH GPS dated December 2022. The current version of the NIH GPS, in both HTML and PDF formats, as well as previous versions of the NIH GPS and documents summarizing significant changes implemented with each revision, are available at https://grants.nih.gov/policy/nihgps/index.htm.

As noted in NOT-OD-24-069 https://grants.nih.gov/grants/guide/notice-files/NOT-OD-24-069.html, the Office of Management and Budget (OMB) has issued updates to 2 CFR part 200, with an implementation date of October 1, 2024. NIH will include the changes to 2 CFR part 200 in the FY 2025 release of the NIH GPS, in line with the implementation date set by OMB.

Dated: May 1, 2024.
Lawrence Tabak,
Principal Deputy Director, National Institutes of Health.

[FR Doc. 2024-10135 Filed 5-8-24; 8:45 am]

BILLING CODE 4140-01-P